DEPARTMENT OF JUSTICE

Bureau of Alcohol, Tobacco, Firearms and Explosives

[OMB Number 1140-NEW]

Agency Information Collection Activities; Proposed Collection; Comments Requested: FEL Out-of-Business Records

ACTION: 60-Day Notice.

The Department of Justice (DOJ), Bureau of Alcohol, Tobacco, Firearms and Explosives (ATF), will be submitting the following information collection request to the Office of Management and Budget (OMB) for review and approval in accordance with the Paperwork Reduction Act of 1995. The proposed information collection is published to obtain comments from the public and affected agencies. Comments are encouraged and will be accepted for “sixty days” until December 17, 2012. This process is conducted in accordance with 5 CFR 1320.10.

If you have comments especially on the estimated public burden or associated response time, suggestions, or need a copy of the proposed information collection instrument with instructions or additional information, please contact Robin Little, Industry Records Branch at NTC-IndustryRecordsBranch@atf.gov, 244 Needy Road, Martinsburg, WV 25405.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Summary of Information Collection

(1) Type of Information Collection: New collection.

(2) Title of the Form/Collection: FEL Out-of-Business Records.

(3) Agency form number, if any, and the applicable component of the Department of Justice sponsoring the collection: Form Number: None. Bureau of Alcohol, Tobacco, Firearms and Explosives.

(4) Affected public who will be asked or required to respond, as well as a brief abstract: Primary: Business or other for profit. Other: None.

Need for Collection

Federal explosives licensees (FELs) and permittees are required by 27 CFR 555.128 where an explosive materials business or operation is discontinued and succeeded by a new licensee or new permittee to reflect that fact in the records and deliver records to the successor or where discontinuance of the business or operation is absolute, deliver records to any ATF office located in the region in which the business or operation was located or to ATF Out of Business Records Center, 244 Needy Road, Martinsburg, WV 25405 within 30 days following the business or operation discontinuance. FELs and permittees are also required by 27 CFR 555.61 to furnish notification of the discontinuance or succession and submit their license or permit and any copies furnished with the license or permit to the Chief, Firearms and Explosives Licensing Center within 30 days following the discontinuance.

(5) An estimate of the total number of respondents and the amount of time estimated for an average respondent to respond: It is estimated that 200 respondents will take 30 minutes to package and deliver the records to ATF.

(6) An estimate of the total public burden (in hours) associated with the collection: There are an estimated 100 annual total burden hours associated with this collection.

If additional information is required contact: Jerri Murray, Department Clearance Officer, Policy and Planning Staff, Justice Management Division, Department of Justice, Two Constitution Square, Room 2E-508, 145 N Street NE., Washington, DC 20530.

Dated: October 10, 2012.
Jerri Murray,
Department Clearance Officer for PRA, U.S. Department of Justice.

[FR Doc. 2012-25351 Filed 10-15-12; 8:45 am]

BILLING CODE 4410-FY-P